ENVIRONMENTAL PROTECTION AGENCY

[OPP-EPA-HQ-OPP-2006-0068; FRL-7760-8]

Full Tribal Pesticide Program Council (TPPC) Public Meeting

AGENCY: Environmental Protection Agency (EPA).

ACTION: Notice.

SUMMARY: The Tribal Pesticide Program Council (TPPC) will hold a 2 and 1/2-day meeting, beginning on March 8 and ending on March 10, 2006. This notice announces the location and times for the meeting, and sets forth the tentative agenda topics. One Tribal Caucus scheduled each day.

DATES: The meeting will be held on March 8-9, 2006 from 9 a.m. to 5 p.m. and a half day training for Tribes on March 10, 2006.

ADDRESSES: The meeting will be held at Doubletree Hotel (Crystal City), 300 Army Navy Drive, Arlington, VA 22202.

FOR FURTHER INFORMATION CONTACT: Georgia McDuffie, Field and External Affairs Division (7506C), Office of Pesticide Programs, Environmental Protection Agency, 1200 Pennsylvania Ave., NW, Washington, DC 20460-0001; telephone number: (703) 605-0195; fax number: (703) 308-1850; e-mail address: mcduffie.georgia@epa.gov or Lillian Wilmore, TPPC Facilitator, P.O. Box 470829 Brookline Village, MA 02447-0829; telephone number: (617) 232-5742; fax (617) 277-1656; e-mail address: naecology@aol.com

SUPPLEMENTARY INFORMATION:

I. General Information

A. Does this Action Apply to Me?

You may be potentially affected by this action if you may be potentially affected by this action if you are interested in TPPC's information exchange relationship with EPA regarding important issues related to human health, environmental exposure to pesticides, and insight into EPA's decision-making process. All parties are invited and encouraged to attend the meetings and participate as appropriate. Potentially affected entities may include, but are not limited to those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult either person listed under FOR FURTHER INFORMATION CONTACT. Potentially affected entities may include, but are not limited to:

• This action is directed to the public in general, and may be of particular interest to those persons who are or may be required to conduct testing of chemical substances under the Federal Food, Drug and Cosmetic Act (FFDCA), or the Federal Insecticide, Fungicide, and Rodenticide Act (FIFRA)

B. How Can I Get Copies of this Document and Other Related Information?

1. Docket. EPA has established a docket for this action under Docket identification number (ID) [OPP-EPA-HQ-2006-0068; FRL-7760-8]. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

2. Electronic access. You may access this Federal Register document electronically through the EPA Internet under the Federal Register listings at http://www.epa.gov/fedrgstr/.

EDOCKET, EPA's electronic public docket and comment system was replaced on November 25,2005, by an enhanced Federal-wide electronic docket management and comment system located at http://www.regulations.gov/. Follow the on-line instructions.

II. Tentative Agenda.

1. TPPC State of the Council Report.

2. Update re Section 2ee Finding Section 18s and 24c Pilot Solution for Tribes.

3. Tribal Caucus of the National Tribal Operations Committee.

4. Reports from: State FIFRA Issues Research Evaluation Group (SFIREG) FOSTTA, and Community Education Ideas.

5. OPP Tribal Strategy.

6. TPPC Strategic Planning Report and Discussion - Question on How to Incorporate Pollution Prevention into all Strategic Planning.

7. OECA Report on the National Tribal Compliance Assistance Priority.

8. Tribal Caucus (Closed to the Public and to EPA).

9. Presentation - Questions and Answers by Deputy Director EPA Office of Pesticide Programs.

10. Biopesticides.

11. Certification & Training in Indian Country Discussion.

12. Reports from EPA Regions.

13. Producer Establishment Inspections.

14. Report on Tribal Special Project Awards and the New Year Special Projects Solicitation.

15. Lifeline, Native American Graves Protection and Repatriation Act (NAGPRA), First Nations of Canada

16. Performance Measures.

17. Presentation on the National Museum of the American Indian/Smithsonian.

18. A half day training (Tribes only).

List of Subjects

Environmental protection.

Dated: February 2, 2006.
William R. Diamond,
Director, Field External Affairs Division, Office of Pesticide Programs

[FR Doc. E6-1848 Filed 2-9-06; 8:45 am]

BILLING CODE 6560-50-S